DEPARTMENT OF COMMERCE

International Trade Administration

Overseas Trade Missions

AGENCY: International Trade Administration, Department of Commerce.

ACTION: Notice.

SUMMARY: The Department of Commerce invites U.S. companies to participate in the below listed overseas trade missions. For a more complete description, obtain a copy of the mission statement from the contact officer indicated for each individual mission below.

Commercial Security Trade Mission to Canada

Ottawa, Montreal and Toronto, June 16-19, 2003. Recruitment closes April 16, 2003.

FOR FURTHER INFORMATION CONTACT: Ms. Connie Irrera, U.S. Department of Commerce, telephone (514) 398-9695, ext. 2262, or e-mail to Connie.Irrera@mail.doc.gov.

Automotive Supply Chain Trade Mission to Central Mexico

Aguascalientes and Silao, September 21-24, 2003. Recruitment closes on June 30, 2003.

FOR FURTHER INFORMATION CONTACT: Mr. Eric Nielsen, U.S. Department of Commerce, telephone (520) 670-5540, or e-mail to Eric.Nielsen@mail.doc.gov.

Recruitment and selection of private sector participants for these trade missions will be conducted according to the Statement of Policy Governing Department of Commerce Overseas Trade Missions dated March 3, 1997.

FOR FURTHER INFORMATION CONTACT: Mr. Thomas Nisbet, U.S. Department of Commerce, telephone (202) 482-5657, or e-mail Tom_Nisbet@ita.doc.gov.

Dated: March 18, 2003.
Thomas H. Nisbet,
Director, Export Promotion Coordination, Office of Planning, Coordination and Management.

[FR Doc. 03-6908 Filed 3-21-03; 8:45 am]

BILLING CODE 3510-DR-U